DEPARTMENT OF THE INTERIOR

Bureau of Land Management

[LLCOF00000-L16520000-XX0000]

Notice of Meeting, Rio Grande Natural Area Commission

AGENCY: Bureau of Land Management, Interior.

ACTION: Notice of public meeting.

SUMMARY: In accordance with the Federal Land Policy and Management Act of 1976 (FLPMA) and the Federal Advisory Committee Act of 1972 (FACA), the U.S. Department of the Interior, Bureau of Land Management (BLM) Rio Grande Natural Area Commission will meet as indicated below.

DATES: The meeting will be held from noon to 4 p.m. on August 5, 2011.

ADDRESSES: Inn of the Rio Grande, 333 Santa Fe Avenue, Alamosa, CO 81101.

FOR FURTHER INFORMATION CONTACT: Paul Tigan, Planning and Environmental Coordinator, BLM Colorado State Office, 2850 Youngfield Street, Lakewood, CO 80215. Phone: (303) 239-3949. E-mail: pdtigan@blm.gov.

SUPPLEMENTARY INFORMATION: The Rio Grande Natural Area Commission was established in the Rio Grande Natural Area Act (16 U.S.C. 460rrr-2). The nine-member Commission advises the Secretary of the Interior, through the BLM, concerning the preparation and implementation of a management plan relating to non-Federal land in the Rio Grande Natural Area, as directed by law. Planned agenda topics include: Commission Member Introductions; Resource Advisory Committee/FACA Orientation; Ethics Training for Resource Advisory Committee/FACA Members; Overview of the Rio Grande Natural Area Act and Commission Charter; Election of Commission Chairperson; Formation of Commission Subcommittees; Public Comment; and Scheduling Future Commission Meetings. This meeting is open to the public. The public is encouraged to make oral comments to the Commission at 3:30 p.m. or written statements may be submitted for the Commission's consideration. Depending on the number of persons wishing to comment and time available, the time for individual oral comments may be limited. Summary minutes for the Commission Meeting will be maintained in the San Luis Valley Public Lands Center and will be available for public inspection and reproduction during regular business hours within 30 days following the meeting. Meeting minutes and agenda (10 days prior to each meeting) are also available at: http://www.blm.gov/rac/co/frrac/co_fr.htm.

Dated: June 28, 2011.
Anna Marie Burden,
Acting State Director.

[FR Doc. 2011-16785 Filed 7-1-11; 8:45 am]

BILLING CODE 4310-JB-P